DEPARTMENT OF EDUCATION

[CFDA Nos. 84.007, 84.032, 84.033, 84.038, 84.063, 84.069, and 84.268]

Student Assistance General Provisions, Federal Supplemental Educational Opportunity Grant, Federal Family Education Loan, Federal Work-Study, Federal Perkins Loan, Federal Pell Grant, Leveraging Educational Assistance Partnership, and William D. Ford Federal Direct Loan; Notice of Deadline and Submission Dates for Receipt of Applications, Reports, and Other Documents for the 2001-2002 Award Year

Correction

In notice document 01-20855 beginning on page 43753, in the issue of Monday, August 20, 2001, on pages 43755 and 43756, typeset errors were made on Table A and Table B. Tables A and B are set forth below.

[FR Doc. C1-20855 Filed 9-4-01; 8:45 am]

BILLING CODE 1501-01-D

FEDERAL TRADE COMMISSION

Agency Information Collection Activities; Submission for OMB Review; Comment Request

Correction

In notice document 01-20278 beginning on page 42538 in the issue of Monday, August 13, 2001, make the following correction:

On page 42539, in the third column, in the fourth line, “cost” should read “post”.

[FR Doc. C1-20278 Filed 9-4-01; 8:45 am]

BILLING CODE 1505-01-D

NUCLEAR REGULATORY COMMISSION

Biweekly Notice; Applications and Amendments to Facility Operating Licenses Involving No Significant Hazards Considerations

Correction

In notice document 01-20885 beginning on page 44161 in the issue of Wednesday, August 22, 2001, make the following correction:

On page 44167, in the second column, under Description of amendment request, in the fifth line, “5.0.5” should read “4.0.5”.

[FR Doc. C1-20885 Filed 9-4-01; 8:45 am]

BILLING CODE 1505-01-D

RAILROAD RETIREMENT BOARD

Privacy Act of 1974; Proposed Changes to Systems of Records

Correction

In notice document 01-18907 beginning on page 39376 in the issue of Monday, July 30, 2001, make the following correction:

On page 39376, in the third column, under the heading AUTHORITY FOR MAINTENANCE OF THE SYSTEM:, the following text should be moved to the second column preceding the heading RRB-5:

On July 20, 2001, the Railroad Retirement Board filed a new system report for this system with the House Committee on Government Operations, the Senate Committee on Governmental Affairs, and the Office of Management and Budget. This was done to comply with Section 3 of the Privacy Act of 1974 and OMB Circular No. A-130, Appendix I.

By Authority of the Board.
Beatrice Ezerski,
Secretary of the Board.

[FR Doc. C1-18907 Filed 9-4-01; 8:45 am]

BILLING CODE 1505-01-D

DEPARTMENT OF VETERANS AFFAIRS

38 CFR Part 17

RIN 2900-AK85

Copayments for Medications

Correction

In proposed rule document 01-17734 beginning on page 36960 in the issue of Monday, July 16, 2001, make the following correction:

On page 36961, in the first column, under ADDRESSES, in the eighth line, “OGSRegulations@mail.va.gov” should read “OGCRegulations@mail.va.gov”.

[FR Doc. C1-17734 Filed 9-4-01; 8:45 am]

BILLING CODE 1505-01-D